FEDERAL COMMUNICATIONS COMMISSION

Notice of Public Information Collection(s) Being Reviewed by the Federal Communications Commission

March 9, 2005.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 18, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0816.

Title: Local Telephone Competition and Broadband Reporting, WC Docket No. 04-141, FCC 04-266 (Report and Order).

Form No: FCC Form 477.

Type of Review: Revision of a currently approved collection.

Respondents: Business or other for-profit, not-for-profit institutions, and state, local or tribal government.

Number of Respondents: 1,400 respondents; 2,800 responses.

Estimated Time Per Response: 21.9 hours.

Frequency of Response: Semi-annual reporting requirement.

Total Annual Burden: 61,320 hours.

Total Annual Cost: N/A.

Privacy Act Impact Assessment: N/A.

Needs and Uses: With this submission to OMB, the Commission revised this information collection by taking the following steps to reduce burdens: (1) We declined to adopt certain modifications to FCC Form 477 proposed in the Data Collection NPRM, including the proposed requirement that filers categorize broadband connections according to the information transfer rate (“speed”) actually observed by the end user; (2) we eliminated various questions from the wireline local telephone section of the form; (3) we eliminated the requirements that filers seeking confidential treatment of FCC Form 477 data prepare and submit a separate, redacted Form 477; (4) responded to comments submitted by the Office of Advocacy of the Small Business Administration (SBA), we will publish a Small Entity Compliance Guide to provide a set of user-friendly explanations to direct small entities to those sections of the Form 477 relevant to their operations.

The information will be used by the Commission to prepare reports that help inform consumers and policy makers at the federal and state level of the deployment of competition in the local telephone service market and the deployment of broadband services. We will continue to use the information to better inform our understanding of broadband deployment in conjunction with our congressionally-mandated section 706 reports.

OMB Control No.: 3060-0767.

Title: Auction Forms and License Transfer Disclosure Requirements—Supplement for the Second Order on Reconsideration of the Fifth Report and Order in WT Docket No. 97-82.

Form No: N/A.

Type of Review: Revision of a currently approved collection.

Respondents: Business or other for-profit, not-for-profit institutions, and State, local or tribal government.

Number of Respondents: 22,000.

Estimated Time Per Response: .25-5.25 hours.

Frequency of Response: On occasion reporting requirement, recordkeeping requirement and third party disclosure requirement.

Total Annual Burden: 770,250 hours.

Total Annual Cost: $47,333,500.

Privacy Act Impact Assessment: N/A.

Needs and Uses: With this submission to OMB, the Commission adopted the Second Order on Reconsideration of the Fifth Report and Order, WT Docket No. 97-82, which revised this information collection because one of the eligibility factors pertaining to a limited exemption from the attribution rules that are part of the Commission's Part 1 competitive bidding rules. Specifically, based on petitions for reconsideration of the Reconsideration of the Part 1 Fifth Report and Order, the Commission revised the third element of the exemption, by permitting a rural telephone cooperative applicant (or its controlling interest) to demonstrate that the rural telephone cooperatives in question is eligible for tax-exempt status pursuant to Section 501(c)(12) of the Internal Revenue Code or that it (or its controlling interests) adheres to the cooperative principles articulated in the Puget Sound.

OMB Control No.: 3060-1046.

Title: Pay Telephone Reclassification and Compensation Provisions of the Telecommunications Act of 1996, CC Docket No. 96-128, Order on Reconsideration.

Form No: N/A.

Type of Review: Revision of a currently approved collection.

Respondents: Business or other for-profit.

Number of Respondents: 1,023 respondents; 4,854 responses.

Estimated Time Per Response: 100 hours.

Frequency of Response: Quarterly and annual reporting requirements, recordkeeping requirement and third party disclosure requirement.

Total Annual Burden: 485,400 hours.

Total Annual Cost: N/A.

Privacy Act Impact Assessment: N/A.

Needs and Uses: The Commission adopted an Order on Reconsideration, CC Docket No. 96-128, which increased the time carriers must retain certain data and adds burden in that regard, it also removes potentially burdensome paperwork requirements by encouraging carriers to comply with the reporting requirements through electronic means. We believe that the clarifications contained in this submission will also significantly decrease the paperwork burden on carriers. Specifically, the Commission did the following: (1) Clarified alternative arrangements for small businesses. A Completing Carrier must give the Public Service Provider (PSP) adequate notice of an alternative compensation arrangement (ACA) prior to its effective date with sufficient time for the PSP to object to an ACA, and also prior to the termination of an ACA; (2) clarified any paperwork burdens imposed on carriers. A Completing Carrier must give PSPs adequate notice of ACAs by placing a notice on a clearinghouse Web site; (3) requiring Completing Carrier and Intermediate Carriers to report only completed calls in their quarterly reports; and (4) extended the time period from 18 to 27 months for Completing Carriers and Intermediate Carriers to retain certain payphone records.

Federal Communications Commission.
Marlene H. Dortch,
Secretary.

[FR Doc. 05-5311 Filed 3-16-05; 8:45 am]

BILLING CODE 6712-01-P